DEPARTMENT OF THE INTERIOR

Bureau of Land Management

[LLORB00000.L10200000.BS0000. LXSSH1060000.19X.HAG 19-0110]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior Bureau of Land Management (BLM) Southeast Oregon Resource Advisory Council (RAC) will meet as indicated below.

DATES: The Southeast Oregon RAC will meet Thursday, October 10, 2019, from 8:00 a.m. to 4:15 p.m. Pacific Daylight Time. There will be a 30-minute public comment period beginning at 3:15 p.m.

ADDRESSES: The meeting will be held at the Harney County Community Center, 478 N Broadway, Burns, Oregon.

FOR FURTHER INFORMATION CONTACT: Larisa Bogardus, Public Affairs Officer, 1301 S G Street, Lakeview, Oregon 97630; 541-947-6811; lbogardus@blm.gov. Persons who use a telecommunications device for the deaf (TDD) may call the Federal Relay Service (FRS) at 1-800-877-8339 to contact the above individual during normal business hours. The FRS is available 24 hours a day, 7 days a week, to leave a message with the above individual. You will receive a reply during normal business hours.

SUPPLEMENTARY INFORMATION: The 15-member Southeast Oregon RAC provides advice and recommendations to the Secretary of the Interior on a variety of planning and management issues associated with public land management within the BLM's Burns, Vale, and Lakeview Districts, and the U.S. Forest Service's Fremont-Winema and Malheur National Forests. Their diverse perspectives are represented in commodity, noncommodity, and local interests. All meetings are open to the public in their entirety. Information to be distributed to the RAC is requested prior to the start of each meeting.

Agenda item topics include management of energy and minerals, timber, rangeland and livestock grazing, commercial and dispersed recreation, wildland fire and fuels, and wild horses and burros relating to proposed actions by the Burns, Vale, or Lakeview Districts; and any other business that may reasonably come before the RAC. A final agenda will be posted online at https://www.blm.gov/get-involved/resource-advisory-council/near-you/oregon-washington/southeast-oregon-rac at least one week prior to the meeting.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Jeffrey Rose,
Burns District Manager.

[FR Doc. 2019-19157 Filed 9-4-19; 8:45 am]

BILLING CODE 4310-33-P